SMALL BUSINESS ADMINISTRATION

[Declaration of Disaster #3553]

State of Texas; Amendment

The above-numbered declaration is hereby amended to extend the incident period for this disaster to October 16, 2003.

All other information remains the same, i.e., the deadline for filing applications for physical damage is December 8, 2003, and for economic injury the deadline is July 7, 2004.

(Catalog of Federal Domestic Assistance Program Nos. 59002 and 59008).

Dated: October 21, 2003.
Hector V. Barreto,
Administrator.

[FR Doc. 03-27016 Filed 10-24-03; 8:45 am]

BILLING CODE 8025-01-P